SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes a new information collection, and revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, DCRDP, Attn: Reports Clearance Director, 107 Altmeyer Building, 6401 Security Blvd., Baltimore, MD 21235, Fax: 410-966-2830, Email address: OR.Reports.Clearance@ssa.gov

I. The information collections below are pending at SSA. SSA will submit them to OMB within 60 days from the date of this notice. To be sure we consider your comments, we must receive them no later than October 15, 2013. Individuals can obtain copies of the collection instruments by writing to the above email address.

1. Request for Corrections of Earnings Record—20 CFR 404.820 and 20 CFR 422.125—0960-0029. Individuals alleging their earnings records in SSA's files are inaccurate use Form SSA-7008 to provide the information SSA needs to check earnings posted, and as necessary, initiate development to resolve any inaccuracies. The respondents are individuals who request correction of earnings posted to their Social Security earnings record.

Type of Request: Revision of an OMB-approved information collection.

Modality of completion | Number of respondents | Frequency of response | Average burden per response (minutes) | Estimated total annual burden (hours)
Paper form | 37,500 | 1 | 10 | 6,250
In-person or telephone interview | 337,500 | 1 | 10 | 56,250
Totals | 375,000 |  |  | 62,500

2. Protection and Advocacy for Beneficiaries of Social Security (PABSS)—20 CFR 435.51-435.52—0960-0768. In March of 2013, Social Security announced its intention to award grants to reestablish community-based protection and advocacy projects in every State, U.S. Territories, and the Hopi and Navajo tribal nations, as authorized under Section 1150 of the Social Security Act (Act). Awardees are the 57 Protection & Advocacy (P&A) organizations established under Title I of the Developmental Disabilities Assistance and Bill of Rights Act. The PABSS projects are part of Social Security's strategy to increase the number of Social Security Disability Insurance (SSDI) or Supplemental Security Income (SSI) recipients who return to work and achieve financial independence and self-sufficiency as the result of receiving support, representation, advocacy, or other services. The overarching objective of the PABSS program is to provide information and advice about obtaining vocational rehabilitation and employment services, and to provide advocacy or other services a beneficiary with a disability may need to secure, maintain, or regain gainful employment. The PABSS Annual Program Performance Report collects statistical information from each of the PABSS projects in an effort to manage and capture program performance and quantitative data. Social Security uses the information to evaluate the efficacy of the program, and to ensure beneficiaries are receiving quality services. The project data is valuable to Social Security in its analysis of and future planning for the SSDI and SSI programs. The respondents are the 57 PABSS project sites, and recipients of SSDI and SSI programs.

Type of Request: Revision of an OMB-approved information collection.

Modality of completion | Number of respondents | Frequency of response | Average burden per response (minutes) | Estimated total annual burden (hours)
PABSS Program Grantees | 57 | 1 | 60 | 57
SSDI and SSI Recipients | 5,000 | 1 | 30 | 2,500
Totals | 5,057 |  |  | 2,557

II. SSA submitted the information collections below to OMB for clearance. Your comments regarding the information collections would be most useful if OMB and SSA receive them 30 days from the date of this publication. To be sure we consider your comments, we must receive them no later than September 13, 2013. Individuals can obtain copies of the OMB clearance packages by writing to OR.Reports.Clearance@ssa.gov.

1. Promoting Readiness of Minors in Supplemental Security Income (SSI) (PROMISE) Evaluation—Preliminary Activities—0960-NEW.

Background

The Promoting Readiness of Minors in SSI (PROMISE) program pursues positive outcomes for children with disabilities who receive SSI and their families by reducing dependency on SSI. The Department of Education is awarding grants to States to improve the provision and coordination of services and support for children with disabilities who receive SSI and their families to achieve improved outcomes.

PROMISE Evaluation

With support from the Department of Labor and the Department of Health and Human Services, SSA will evaluate the PROMISE program. SSA will contract with an evaluator to conduct the evaluation. The assessment will require a process evaluation of the PROMISE projects, an impact analysis of important outcomes, and a cost-benefit analysis. This will be a multi-site project conducted in four States. The evaluation contractor and the local PROMISE projects will collect data on project participants.

Current Information Collection Request

SSA will pursue OMB approval for subsequent project surveys and focus group interviews at a later date. In this information collection request, SSA is only seeking OMB clearance for one pre-project activity: an initial intake interview including a request for consent from the participants, documented on a demonstration enrollment form. Local project staff will conduct these interviews at the local project sites, or in areas convenient for the families. The demonstration enrollment form will provide contact information for purposes of project administration, as well as work and education history, and health status, for baseline measurement purposes. The demonstration enrollment form will also allow SSA to obtain informed consent from the participants and their parents or guardians. The respondents are minors receiving SSI who will eventually participate in the PROMISE project, their parents or guardians, and, if applicable, additional household members.

Type of Request: This is a new information collection.

Modality of completion | Number of respondents | Frequency of response | Average burden per response (minutes) | Estimated total annual burden (hours)
Demonstration Enrollment Form | 8,000 | 1* | 7 | 933
* Each respondent will complete this forms only once for the duration of the PROMISE project.

This is a correction notice: When SSA published the 60-day Federal Register Notice for this information collection at 78 FR 22935, on April 17, 2013, we included two forms: a demonstration enrollment form, and a consent form. Since then we have combined the two forms into a single form, and updated our burden chart accordingly. In addition, we decided local project staff will conduct the intake interviews and help the respondents fill out the form, rather than hiring a contractor to do this initial task for the PROMISE project.

2. Application for Child's Insurance Benefits—20 CFR 404.350-404.368, 404.603, & 416.350—0960-0010. Title II of the Act provides for the payment of monthly benefits to children of an insured retired, disabled, or deceased worker. Section 202(d) of the Act discloses the conditions and requirements the applicant must meet when filing an application. SSA uses the information on Form SSA-4-BK to determine entitlement for children of living and deceased workers to monthly Social Security payments. Respondents are guardians completing the form on behalf of the children of living or deceased workers, or the children of living or deceased workers.

Type of Request: Revision of an OMB-approved information collection.

Modality of completion | Number of respondents | Frequency of response | Average burden per response (minutes) | Estimated total annual burden (hours)
Life Claims (paper) | 18,500 | 1 | 12 | 3,700
Life Claims—Modernized Claims System (MCS) | 351,500 | 1 | 12 | 70,300
Life Claims—Signature Proxy | 351,500 | 1 | 11 | 64,442
Death Claims (paper) | 6,000 | 1 | 12 | 1,200
Death Claims (MCS) | 114,000 | 1 | 12 | 22,800
Death Claims—Signature Proxy | 114,000 | 1 | 11 | 20,900
Totals | 955,500 |  |  | 183,342

3. Certificate of Coverage Request—20 CFR 404.1913—0960-0554. The United States has agreements with 24 foreign countries to eliminate double Social Security coverage and taxation where, except for the provisions of the agreement, a worker would be subject to coverage and taxes in both countries. These agreements contain rules for determining the country under whose laws the worker's period of employment is covered, and to which country the worker will pay taxes. The agreements further dictate that, upon the request of the worker or employer, the country under whose system the period of work is covered will issue a certificate of coverage. The certificate serves as proof of exemption from coverage and taxation under the system of the other country. The information we collect assists us in determining a worker's coverage and in issuing a U.S. certificate of coverage as appropriate. Per our agreements, we ask a set number of questions to the workers and employers prior to issuing a certificate of coverage; however, our agreements with Denmark, Netherlands, Norway, and Sweden require us to ask more questions in those countries. Respondents are workers and employers wishing to establish exemption from foreign Social Security taxes.

Type of Request: Revision of an OMB-approved information collection.

Modality of completion | Number of respondents | Frequency of response | Average burden per response (minutes) | Estimated total annual burden (hours)
Requests via Letter—Individuals (minus Denmark, Netherlands, Norway, & Sweden) | 5,320 | 1 | 40 | 3,547
Requests via Internet—Individuals (minus Denmark, Netherlands, Norway, & Sweden) | 7,979 | 1 | 40 | 5,319
Requests via Letter—Individuals in Denmark, Netherlands, Norway, & Sweden | 280 | 1 | 44 | 205
Requests via Internet—Individuals in Denmark, Netherlands, Norway, & Sweden | 421 | 1 | 44 | 309
Requests via Letter—Employers (minus Denmark, Netherlands, Norway, & Sweden) | 21,279 | 1 | 40 | 14,186
Requests via Internet—Employers (minus Denmark, Netherlands, Norway, & Sweden) | 31,920 | 1 | 40 | 21,280
Requests via Letter—Employers in Denmark, Netherlands, Norway, & Sweden | 1,121 | 1 | 44 | 822
Requests via Internet—Employers in Denmark, Netherlands, Norway, & Sweden | 1,680 | 1 | 44 | 1,232
Totals | 70,000 |  |  | 46,900

4. Application Status—20 CFR 401.45—0960-0763. Application Status provides users with the capability to check the status of their pending Social Security claims either via the Internet or the National 800 Number Automated Telephone Service. Users need their Social Security number and a confirmation number to access this information. The Application Status shows users when SSA received the application, if we requested additional documents (e.g., military discharge papers, W-2s, birth records, etc.), and provides the address for the office processing the application. Once SSA makes a decision on a claim, we post a copy of the decision notice online for the user to view. There are some exceptions to posting a copy online, such as disability denial notices (even if filed electronically) or claims users did not file via the Internet, as we may not have those notices available for online review. Respondents are current Social Security claimants who wish to check the status of their claims either through the Internet or the National 800 Number.

Type of Request: Revision of an OMB-approved information collection.

Modality of completion | Number of respondents | Frequency of response | Average burden per response (minutes) | Estimated total annual burden (hours)
Automated Telephone Services | 498,477 | 1 | 2 | 16,616
Internet Services | 6,032,016 | 1 | 1 | 100,534
Totals | 6,530,493 |  |  | 117,150

Dated: August 9, 2013.
Faye Lipsky,
Reports Clearance Director, Social Security Administration.

[FR Doc. 2013-19701 Filed 8-13-13; 8:45 am]

BILLING CODE 4191-02-P